DEPARTMENT OF COMMERCE

International Trade Administration

(A-533-810)

Notice of Final Results and Final Partial Rescission of Antidumping Duty Administrative Review: Stainless Steel Bar from India

AGENCY: Import Administration, International Trade Administration, Department of Commerce.

SUMMARY: On March 7, 2007, the Department of Commerce published the preliminary results of the administrative review of the antidumping duty order on stainless steel bar from India. The period of review is February 1, 2005, through January 31, 2006. This review covers sales of stainless steel bar from India with respect to eight producers/exporters. We provided interested parties with an opportunity to comment on the preliminary results of this review. We have noted the changes made since the preliminary results below in the “Changes Since the Preliminary Results” section, below. The final results are listed below in the “Final Results of Review” section.

EFFECTIVE DATE: September 10, 2007.

FOR FURTHER INFORMATION CONTACT: Scott Holland or Brandon Farlander, AD/CVD Operations, Office 1, Import Administration, International Trade Administration, U.S. Department of Commerce, 14th Street and Constitution Avenue, NW, Washington DC 20230; telephone (202) 482-1279 and (202) 482-0182, respectively.

SUPPLEMENTARY INFORMATION:

Background

On March 7, 2007, the Department of Commerce (“the Department”) published Notice of Preliminary Results of Antidumping Duty Administrative Review, Intent to Rescind and Partial Rescission of Antidumping Duty Administrative Review: Stainless Steel Bar from India, 72 FR 10151 (March 7, 2007) (“Preliminary Results”) in the Federal Register.

On March 14, 2007, we issued a supplemental questionnaire to respondent Bhansali Bright Bars Pvt. Ltd (“Bhansali”) to correct information contained in the initial questionnaire responses. On March 28, 2007, we received a timely response to this questionnaire from Bhansali. On April 5, 2007, we met with counsel for Carpenter Technology Corporation, Crucible Specialty Metals, a division of Crucible Materials Corporation, Electralloy Company, North American Stainless, Universal Stainless, and Valbruna Slater Stainless (collectively, the “petitioners”) to discuss the review-specific average rate applied at the Preliminary Results to the respondents that were not selected for individual examination in the review by the Department.¹

¹ For the Preliminary Results, the Department applied the review-specific, average rate to the following respondents: Isibars Limited, Grand Foundry, Ltd., Sindia Steels Limited, Snowdrop Trading Pvt. Ltd., Facor Steels, Ltd., and Mukand Ltd. See the Preliminary Results at 10157.

On May 19, 2007, Bhansali submitted a listing of pre-verification corrections to its home market sales listing. On July 5, 2007, the Department published in the Federal Register an extension of the time limit for the final results in the antidumping duty administrative review to no later than September 4, 2007, in accordance with 751(a)(3)(A) of the Tariff Act of 1930, as amended (“the Act”). See Stainless Steel Bar from India: Extension of Time Limit for the Final Results of the Antidumping Duty Administrative Review, 72 FR 36668 (July 5, 2007).

On July 24, 2007, we notified interested parties that comments on the Preliminary Results were due on July 31, 2007, and rebuttal comments were due on August 10, 2007. See Memorandum to the File, “Briefing Schedule for Comments on the Preliminary Results in the 2005/2006 Antidumping Duty Administrative Review of Stainless Steel Bar from India,” dated July 24, 2007. On July 25, 2007, we requested that Bhansali and Venus submit revised sales and cost listings to the Department. We received revised home market sales listings from Venus, and revised sales and cost listings from Bhansali in August 2007.

On July 31, 2007, we received case briefs from the petitioners and Bhansali. On August 2, 2007, we rejected Bhansali's case brief, in accordance with 19 CFR 351.302(d)(i) of the Department's regulations, because it contained new and untimely filed information. On August 4, 2007, we received a revised case brief from Bhansali. On August 6, 2007, we received a rebuttal brief from Bhansali. On August 10, 2007, the petitioners and interested parties Facor Steels, Ltd. (“Facor”) and Mukand Ltd. (“Mukand”) filed rebuttal briefs. We did not receive comments from Venus. The Department did not receive a request for a public hearing from interested parties.

Scope of the Order

Imports covered by the order are shipments of stainless steel bar (“SSB”). SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to these reviews is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of the order is dispositive.

On May 23, 2005, the Department issued a final scope ruling that SSB manufactured in the United Arab Emirates out of stainless steel wire rod from India is not subject to the scope of this order. See Memorandum from Team to Barbara E. Tillman, “Antidumping Duty Orders on Stainless Steel Bar from India and Stainless Steel Wire Rod from India: Final Scope Ruling,” dated May 23, 2005, which is on file in the Central Records Unit (“CRU”) located in room B-099 of the main Department building. See also Notice of Scope Rulings, 70 FR 55110 (September 20, 2005).

Verification

As provided in section 782(i) of the Act, we conducted verification of the sales information contained in the questionnaire responses submitted by respondent Venus Wire Industries Pvt. Ltd. (“Venus”) in Mumbai, India, in May 2007. The Department reported its findings on July 24, 2007. See Memorandum to the File, “Verification of the Sales Responses of Venus Wire Industries Pvt. Ltd. in the 2005/2006 Antidumping Duty Administrative Review of Stainless Steel Bar from India,” (“Verification Report—Venus”) dated July 24, 2007.

We also conducted verification of the sales and cost information contained in the questionnaire responses submitted by Bhansali in May 2007. The Department reported its findings on July 24, 2007. See Memorandum to the File, “Verification of the Sales and Cost Responses of Bhansali Bright Bars Pvt. Ltd. in the 2005/2006 Antidumping Duty Administrative Review of Stainless Steel Bar from India,” (“Verification Report—Bhansali”) dated July 24, 2007. These reports are on file in the Central Records Unit in room B-099 of the main Department building (“CRU”).

Period of Review

The period of review (“POR”) is February 1, 2005, through January 31, 2006.

Partial Rescission of Review

In the Preliminary Results, the Department preliminarily rescinded this review with respect to Akai Asian (“Akai”), Atlas Stainless (“Atlas”) and Meltroll Engineering Pvt. Ltd. (“Meltroll”) pursuant to 19 CFR 351.213(d)(3). The Department confirmed that Akai, Atlas, and Meltroll did not ship subject merchandise to the United States during the POR using U.S. Customs and Border Protection (“CBP”) data. We did not receive comments on this issue. Therefore, pursuant to 19 CFR 351.213(d)(3), and consistent with the Preliminary Results, we are rescinding this review with respect to Akai, Atlas, and Meltroll.

Affiliation

As explained in the Preliminary Results, we have determined that Venus and its exporter Precision Metals are affiliated within the meaning of section 771(33) of the Act, and also that the two companies should be treated as a single entity for the purposes of this administrative review. Therefore, we find that Venus and Precision Metals should receive a single antidumping duty rate. See Memorandum from Scott Holland to Susan H. Kuhbach, Senior Office Director, “Relationship of Venus Wire Industries Pvt., Ltd. and Precision Metals,” dated February 28, 2007, which is on file in the CRU in room B-099 of the main Department building.

Analysis of Comments Received

All issues raised in the case and rebuttal briefs by parties to this review are addressed in the September 4, 2007, Issues and Decision Memorandum for the 2005/2006 Antidumping Duty Administrative Review of Stainless Steel Bar from India (“Decision Memorandum”), which is hereby adopted by this notice. Attached to this notice as an appendix is a list of the issues which parties have raised and to which we have responded in the Decision Memorandum. Parties can find a complete discussion of all issues raised in this review and the corresponding recommendations in this public memorandum, which is on file in the Department's CRU. In addition, a complete version of the Decision Memorandum can be accessed directly on the Web at http://ia.ita.doc.gov/frn. The paper copy and electronic version of the Decision Memorandum are identical in content.

Changes Since the Preliminary Results

Based on our findings at verification, and analysis of comments received, we have made adjustments to the preliminary results calculations for Bhansali and Venus. Brief descriptions of the company-specific changes are discussed below.

Bhansali

Based upon the information obtained at verification, we are deducting billing adjustments from the gross unit price on certain home market sales. We are also reducing billing adjustments for the portion attributable to taxes included in the invoice price. We are deducting from U.S. gross unit price the per-unit certificate of origin expenses incurred on export sales. We are using the cost information provided by Bhansali in its March 28, 2007, submission for certain products that did not have cost data in the Preliminary Results.

Venus

We are using Venus' revised home market sales listing submitted on August 13, 2007, which included the verified recalculated credit expenses.

Results of the COP Test

Pursuant to section 773(b)(2)(C)(i) of the Act, where less than 20 percent of sales of a given product were at prices less than the COP, we did not disregard any below-cost sales of that product because we determined that the below-cost sales were not made in “substantial quantities.” Where 20 percent or more of a respondent's sales of a given product during the POR were at prices less than the COP, we determined such sales to have been made in “substantial quantities.” See section 773(b)(2)(C) of the Act. The sales were made within an extended period of time in accordance with section 773(b)(2)(B) of the Act, because we examined below-cost sales occurring during the entire POR. In such cases, because we compared prices to POR-average costs, we also determined that such sales were not made at prices which would permit recovery of all costs within a reasonable period of time, in accordance with section 773(b)(2)(D) of the Act.

For Bhansali and Venus, we found that, for certain products, more than 20 percent of comparison market sales were at prices less than the COP and, thus, the below-cost sales were made within an extended period of time in substantial quantities. In addition, these sales were made at prices that did not provide for the recovery of costs within a reasonable period of time. Therefore, we excluded these sales and used the remaining sales, if any, as the basis for determining NV, in accordance with section 773(b)(1) of the Act.

Final Results of Review

As a result of our review, we determine that the following weighted-average margins exist for the period February 1, 2005, through January 31, 2006:

Exporter/Manufacturer | Margin
Bhansali Bright Bars Pvt. Ltd. | 2.01
Venus Wire Industries Pvt. Ltd. | 0.03 (de minimis)
Review-Specific Average Rate Applicable to the Following Companies:²
Isibars Limited
Grand Foundry, Ltd.
Sindia Steels Limited
Snowdrop Trading Pvt. Ltd.
Facor Steels, Ltd.
Mukand Ltd | 2.01
² This rate is based on the weighted average of the margins calculated for those companies selected for individual review, excluding de minimis margins or margins based entirely on AFA.

Assessment Rates

The Department shall determine, and CBP shall assess, antidumping duties on all appropriate entries. Pursuant to 19 CFR 351.212(b)(1), for all sales made by respondents for which they have reported the importer of record and the entered value of the U.S. sales, we have calculated importer-specific assessment rates based on the ratio of the total amount of antidumping duties calculated for the examined sales to the total entered value of those sales.

Where the respondents did not report the entered value for U.S. sales, we have calculated importer-specific assessment rates for the merchandise in question by aggregating the dumping margins calculated for all U.S. sales to each importer and dividing this amount by the total quantity of those sales. To determine whether the duty assessment rates were de minimis, in accordance with the requirement set forth in 19 CFR 351.106(c)(2), we calculated importer-specific ad valorem rates based on the estimated entered value. Where the assessment rate is above de minimis, we will instruct CBP to assess duties on all entries of subject merchandise by that importer. Pursuant to 19 CFR 351.106(c)(2), we will instruct CBP to liquidate without regard to antidumping duties any entries for which the assessment rate is de minimis (i.e., less than 0.50 percent).

The Department clarified its “automatic assessment” regulation on May 6, 2003. See Antidumping and Countervailing Duty Proceedings: Assessment of Antidumping Duties, 68 FR 23954 (May 6, 2003). This clarification applies to entries of subject merchandise during the POR produced by the respondent for which it did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

For those companies for which this review is rescinded, antidumping duties shall be assessed at rates equal to the cash deposit of estimated antidumping duties required at the time of entry, or withdrawal from warehouse, for consumption, in accordance with 19 CFR 351.212(c)(1)(i).

For the companies requesting a review, but not selected for examination and calculation of individual rates, we calculated a weighted-average assessment rate based on all importer-specific assessment rates excluding any which are zero, de minimis or determined entirely on adverse facts available. See Notice of Final Results of Antidumping Duty Administrative Review: Certain Softwood Lumber Products from Canada, 70 FR 73437, 73440 (December 12, 2005). The Department intends to issue assessment instructions to CBP 15 days after the date of publication of these final results of review.

Cash Deposit Rates

The following antidumping duty deposits will be required on all shipments of SSB from India entered, or withdrawn from warehouse, for consumption, effective on or after the publication date of these final results of administrative review, as provided by section 751(a)(1) of the Act: (1) the cash deposit rates for the reviewed company will be the rate listed above (except no cash deposit will be required if a company's weighted-average margin is de minimis; (2) for merchandise exported by manufacturers or exporters not covered in this review but covered in the original less-than-fair-value investigation or a previous review, the cash deposit rate will continue to be the most recent rate published in the final determination or final results for which the manufacturer or exporter received an individual rate; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 12.45 percent, the “all others” rate established in the less than fair value investigation. See Stainless Steel Bar from India; Final Determination of Sales at Less Than Fair Value, 59 FR 66915 (December 28, 1994). These cash deposit requirements shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results of review in accordance with sections 751(a)(1) and 777(i)(1) of the Act.

Dated: September 4, 2007.
David M. Spooner,
Assistant Secretary for Import Administration.

APPENDIX I

List of Comments in the Decision Memorandum

General Comments

Comment 1: Application of Review-Specific Rate to Non-Reviewed Companies

Comment 2: Treatment of Sales Made Above Normal Value

Comments Relating to Bhansali Bright Bars Pvt. Ltd.

Comment 3: Treatment of DEPB Application Charges

Comment 4: Comment on Verification: Correct Payment Date

Comment 5: Comment on Verification: Correct Gross Unit Price

Comment 6: Inclusion of Implied Interest on Non-Interest Bearing Loans

Comment 7: Calculation of Home Market Imputed Credit Expenses

Comment 8: Treatment of Billing Adjustments

Comments Relating to Venus Wire Industries Pvt. Ltd.

Comment 9: Calculation of Home Market Imputed Credit Expenses

[FR Doc. E7-17749 Filed 9-7-07; 8:45 am]

BILLING CODE 3510-DS-S